DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 25, 2017.
Roy E. Wright,
Deputy Associate Administrator for Insurance and Mitigation, Department of Homeland Security, Federal Emergency Management Agency.

State and county | Location and case No. | Chief executive officer of community | Community map repository | Date of modification | Community No.
Arkansas:
Crawford (FEMA Docket No.: B-1715) | City of Van Buren (17-06-1187X) | The Honorable Robert Freeman, Mayor, City of Van Buren, 1003 Broadway Street, Van Buren, AR 72956 | Public Works Department, 1003 Broadway Street, Van Buren, AR 72956 | Jun. 29, 2017 | 050053
Crawford (FEMA Docket No.: B-1715) | Unincorporated areas of Crawford County (17-06-1187X) | The Honorable Dennis Gilstrap, Crawford County Judge, 300 Main Street, Room 4, Van Buren, AR 72956 | Crawford County Department of Emergency Management, 1820 Chestnut Street, Van Buren, AR 72956 | Jun. 29, 2017 | 050428
Colorado:
Boulder (FEMA Docket No.: B-1715) | City of Lafayette (16-08-1034P) | The Honorable Christine Berg, Mayor, City of Lafayette, 1290 South Public Road, Lafayette, CO 80026 | Planning Department, 1290 South Public Road, Lafayette, CO 80026 | Jul. 19, 2017 | 080026
Boulder (FEMA Docket No.: B-1715) | Unincorporated areas of Boulder County (16-08-1034P) | The Honorable Deb Gardner, Chair, Boulder County, Board of Commissioners, P.O. Box 471, Boulder, CO 80306 | Boulder County Transportation Department, 2525 13th Street, Suite 203, Boulder, CO 80306 | Jul. 19, 2017 | 080023
Florida:
Manatee (FEMA Docket No.: B-1715) | City of Bradenton (17-04-0078P) | The Honorable Wayne H. Poston, Mayor, City of Bradenton, 101 Old Main Street West, Bradenton, FL 34205 | Building and Construction Services Department, 101 Old Main Street West, Bradenton, FL 34205 | Jul. 5, 2017 | 120155
Monroe (FEMA Docket No.: B-1715) | Unincorporated areas of Monroe County (17-04-1942P) | The Honorable George Neugent, Mayor, Monroe County Board of Commissioners, 500 Whitehead Street, Suite 102, Key West, FL 33040 | Monroe County Building Department, 2798 Overseas Highway, Suite 300, Marathon, FL 33050 | Jul. 12, 2017 | 125129
Pinellas (FEMA Docket No.: B-1715) | City of South Pasadena (16-04-7573P) | The Honorable Max V. Elson, Mayor, City of South Pasadena, 7047 Sunset Drive South, South Pasadena, FL 33707 | Community Improvement Department, 6940 Hibiscus Avenue South, South Pasadena, FL 33707 | Jul. 3, 2017 | 125151
Pinellas (FEMA Docket No.: B-1715) | City of South Pasadena (16-04-7574P) | The Honorable Max V. Elson, Mayor, City of South Pasadena, 7047 Sunset Drive South, South Pasadena, FL 33707 | Community Improvement Department, 6940 Hibiscus Avenue South, South Pasadena, FL 33707 | Jul. 6, 2017 | 125151
Pinellas (FEMA Docket No.: B-1715) | City of South Pasadena (17-04-1269P) | The Honorable Max V. Elson, Mayor, City of South Pasadena, 7047 Sunset Drive South, South Pasadena, FL 33707 | Community Improvement Department, 6940 Hibiscus Avenue South, South Pasadena, FL 33707 | Jul. 11, 2017 | 125151
Massachusetts: Essex (FEMA Docket No.: B-1715) | City of Salem (17-01-0584P) | The Honorable Kimberley Driscoll, Mayor, City of Salem, 93 Washington Street, Salem, MA 01970 | Department of Planning and Community Development, 120 Washington Street, 3rd Floor, Salem, MA 01970 | Jul. 14, 2017 | 250102
Montana:
Musselshell (FEMA Docket No.: B-1715) | City of Roundup (16-08-1129P) | The Honorable Sandy Jones, Mayor, City of Roundup, 34 3rd Avenue West, Roundup, MT 59072 | City Hall, 34 3rd Avenue West, Roundup, MT 59072 | Jul. 13, 2017 | 300050
Musselshell (FEMA Docket No.: B-1715) | Unincorporated areas of Musselshell County (16-08-1129P) | The Honorable Bryan Adolph, Chairman, Musselshell County Board of Commissioners, 506 Main Street, Roundup, MT 59072 | Musselshell County, Planning and Growth Department, 506 Main Street, Roundup, MT 59072 | Jul. 13, 2017 | 300174
Powell (FEMA Docket No.: B-1715) | City of Deer Lodge (16-08-1007P) | The Honorable Zane Cozby, Mayor, City of Deer Lodge, 300 Main Street, Deer Lodge, MT 59722 | City Hall, 300 Main Street, Deer Lodge, MT 59722 | Jul. 6, 2017 | 300060
Powell (FEMA Docket No.: B-1715) | Unincorporated areas of Powell County (16-08-1007P) | The Honorable Ralph “Rem” Mannix, Jr., Chairman, Powell County Board of Commissioners, 409 Missouri Avenue, Suite 101, Deer Lodge, MT 59722 | Powell County Planning Department, 409 Missouri Avenue, Suite 101, Deer Lodge, MT 59722 | Jul. 6, 2017 | 300059
Nevada:
Clark (FEMA Docket No.: B-1715) | City of Henderson (17-09-0463P) | The Honorable Andy Hafen, Mayor, City of Henderson, P.O. Box 95050, Henderson, NV 89002 | Public Works Department, 240 South Water Street, Henderson, NV 89015 | Jul. 13, 2017 | 320005
Clark (FEMA Docket No.: B-1715) | Unincorporated areas of Clark County (17-09-0463P) | The Honorable Steve Sisolak, Chairman, Clark County Board of Commissioners, 500 South Grand Central Parkway, Las Vegas, NV 89155 | Clark County Public Works Department, 500 South Grand Central Parkway, Las Vegas, NV 89155 | Jul. 13, 2017 | 320003
New Mexico: Bernalillo (FEMA Docket No.: B-1715) | Unincorporated areas of Bernalillo County (16-06-3838P) | The Honorable Debbie O'Malley, Chair, Bernalillo County Board of Commissioners, 1 Civic Plaza Northwest, Albuquerque, NM 87102 | Bernalillo County Public Works Division, 2400 Broadway Boulevard Southeast, Albuquerque, NM 87102 | Jul. 3, 2017 | 350001
North Carolina:
Ashe (FEMA Docket No.: B-1715) | Unincorporated areas of Ashe County (16-04-3324P) | The Honorable William Sands, Chairman, Ashe County Board of Commissioners, 150 Government Circle, Suite 2500, Jefferson, NC 28640 | Ashe County Planning Department, 150 Government Circle, Jefferson, NC 28640 | Jun. 2, 2017 | 370007
Burke (FEMA Docket No.: B-1715) | Unincorporated areas of Burke County (16-04-8212P) | The Honorable Jeffrey C. Brittain, Chairman, Burke County Board of Commissioners, P.O. Box 219, Morganton, NC 28680 | Burke County Community Development Department, 110 North Green Street, Morganton, NC 28655 | Jun. 29, 2017 | 370034
Greene (FEMA Docket No.: B-1715) | Unincorporated Areas of Greene County (16-04-3348P) | The Honorable Brad Fields, Chairman, Greene County Board of Commissioners, 229 Kingold Boulevard, Suite D, Snow Hill, NC 28580 | Greene County Department of Building Inspections, 104 Hines Street, Snow Hill, NC 28580 | Mar. 9, 2017 | 370378
Watauga (FEMA Docket No.: B-1715) | Unincorporated areas of Watauga County (16-04-3324P) | The Honorable John Welch, Chairman, Watauga County Board of Commissioners, 814 West King Street, Suite 205, Boone, NC 28607 | Watauga County Planning and Inspections Department, 331 Queen Street, Room A, Boone, NC 28607 | Jun. 2, 2017 | 370251
Pennsylvania:
Jefferson (FEMA Docket No.: B-1715) | Borough of Reynoldsville (16-03-1758P) | The Honorable Thomas J. Sliwinski, President, Borough of Reynoldsville Council, 460 East Main Street, Suite 5, Reynoldsville, PA 15851 | Borough Hall, 460 East Main Street, Suite 5, Reynoldsville, PA 15851 | Jul. 3, 2017 | 420513
Monroe (FEMA Docket No.: B-1715) | Borough of Stroudsburg (16-03-2051P) | The Honorable Ken Lang, President, Borough of Stroudsburg Council, 700 Sarah Street, Stroudsburg, PA 18360 | Municipal Building, 700 Sarah Street, Stroudsburg, PA 18360 | Jul. 5, 2017 | 420694
Monroe (FEMA Docket No.: B-1715) | Township of Stroud (16-03-2051P) | The Honorable Daryl Eppley, Chairman, Township of Stroud Board of Supervisors, 1211 North 5th Street, Stroudsburg, PA 18360 | Zoning Department, 1211 North 5th Street, Stroudsburg, PA 18360 | Jul. 5, 2017 | 420693
Texas:
Hays (FEMA Docket No.: B-1715) | Unincorporated areas of Hays County (16-06-3012P) | The Honorable Bert Cobb, M.D., Hays County Judge, 111 East San Antonio Street, Suite 300, San Marcos, TX 78666 | Hays County Development Services Department, 2171 Yarrington Road, San Marcos, TX 78666 | Jul. 6, 2017 | 480321
Williamson (FEMA Docket No.: B-1715) | City of Leander (17-06-0007P) | The Honorable Christopher Fielder, Mayor, City of Leander, P.O. Box 319, Leander, TX 78646 | Engineering Department, 200 West Willis Street, Leander, TX 78641 | Jul. 20, 2017 | 481536
Williamson (FEMA Docket No.: B-1715) | Unincorporated areas of Williamson County (17-06-0007P) | The Honorable Dan A. Gattis, Williamson County Judge, 710 South Main Street, Suite 101, Georgetown, TX 78626 | Williamson County Engineering Department, 3151 Southeast Inner Loop, Suite B, Georgetown, TX 78626 | Jul. 20, 2017 | 481079
Williamson (FEMA Docket No.: B-1715) | Unincorporated areas of Williamson County (17-06-0666P) | The Honorable Dan A. Gattis, Williamson County Judge, 710 South Main Street, Suite 101, Georgetown, TX 78626 | Williamson County Engineering Department, 3151 Southeast Inner Loop, Suite B, Georgetown, TX 78626 | Jul. 20, 2017 | 481079
Virginia:
Stafford (FEMA Docket No.: B-1715) | Unincorporated areas of Stafford County (16-03-2418P) | Mr. Thomas C. Foley, Stafford County Administrator, P.O. Box 339, Stafford, VA 22555 | Stafford County Planning and Zoning Department, 1300 Courthouse Road, Stafford, VA 22554 | Jun. 15, 2017 | 510154
Washington (FEMA Docket No.: B-1715) | Unincorporated areas of Washington County (16-03-2548P) | The Honorable Randy L. Pennington, Chairman, Washington County Board of Supervisors, 1 Government Center Place, Suite A, Abingdon, VA 24210 | Washington County Department of Zoning Administration, 1 Government Center Place, Suite A, Abingdon, VA 24210 | Jul. 13, 2017 | 510168
Washington (FEMA Docket No.: B-1715) | Unincorporated areas of Washington County (17-03-0603P) | The Honorable Randy L. Pennington, Chairman, Washington County Board of Supervisors, 1 Government Center Place, Suite A, Abingdon, VA 24210 | Washington County Department of Zoning Administration, 1 Government Center Place, Suite A, Abingdon, VA 24210 | Jul. 20, 2017 | 510168

[FR Doc. 2017-20462 Filed 9-22-17; 8:45 am]

BILLING CODE 9110-12-P